ENVIRONMENTAL PROTECTION AGENCY

40 CFR Part 52

[EPA-R06-OAR-2005-NM-0007; FRL-9140-1]

Approval and Promulgation of Air Quality Implementation Plans; New Mexico; Transportation Conformity Requirement for Bernalillo County

AGENCY: Environmental Protection Agency (EPA).

ACTION: Proposed rule.

SUMMARY: EPA is proposing to approve a revision to the New Mexico State Implementation Plan (SIP) at New Mexico Administrative Code 20.11.3, concerning transportation conformity rules for Bernalillo County, New Mexico. The plan revision is intended to ensure consistency with amendments to the federal Transportation Conformity Rule. These plan revisions meet statutory and regulatory requirements, and are consistent with EPA's guidance.

DATES: Written comments should be received on or before May 24, 2010.

ADDRESSES: Please see the related direct final rule, which is located in the “Rules and Regulations” section of this Federal Register, for detailed instructions on how to submit comments.

FOR FURTHER INFORMATION CONTACT: Jeffrey Riley, Air Planning Section (6PD-L), Environmental Protection Agency, Region 6, 1445 Ross Avenue, Suite 700, Dallas, Texas 75202-2733, telephone 214-665-8542; fax number 214-665-7263; e-mail address riley.jeffrey@epa.gov.

SUPPLEMENTARY INFORMATION: This document proposes to take action on SIP revisions submitted by the Governor of New Mexico on behalf of the Albuquerque Environmental Health Department. We have published a direct final rule approving the State's SIP revisions in the “Rules and Regulations” section of this Federal Register because we view this as a noncontroversial action and anticipate no adverse comment. We have explained our reasons for this action in the preamble to the direct final rule.

If we receive no adverse comment, we will not take further action on this proposed rule. If we receive adverse comment, we will withdraw the direct final rule and it will not take effect. We would address all public comments in any subsequent final rule based upon this proposed rule.

We do not intend to institute a second comment period on this action. Any parties interested in commenting must do so at this time. For further information, please see the information provided in the ADDRESSES section of this document.

Dated: April 9, 2010.
Lawrence E. Starfield,
Acting Regional Administrator, Region 6.

[FR Doc. 2010-9197 Filed 4-21-10; 8:45 am]

BILLING CODE 6560-50-P